DEPARTMENT OF THE INTERIOR

Fish and Wildlife Service

Draft Safe Harbor Agreement and Application for an Enhancement of Survival Permit for the Attwater's Prairie Chicken, Northern Aplomado Falcon, Whooping Crane, and Black Lace Cactus for Activities on Private Lands in All or Portions of Aransas, Austin, Colorado, Galveston, Goliad, Refugio, and Victoria Counties, TX (Grazing Lands Conservation Initiative)

AGENCY: U.S. Fish and Wildlife Service, Interior.

ACTION: Notice of availability; receipt of application.

SUMMARY: The Coastal Prairie Coalition, Grazing Lands Conservation Initiative (GLCI) (Applicant) has applied to the U.S. Fish and Wildlife Service (Service) for an enhancement of survival permit pursuant to section 10(a)(1)(A) of the Endangered Species Act (Act) of 1973, as amended. The requested permit, which is for a period of 99 years, includes a draft Safe Harbor Agreement (Agreement) for the endangered Attwater's prairie chicken (Tympanuchus cupido attwateri), the endangered Northern aplomado falcon (Falco femoralis septentrionalis), the endangered Whooping crane (Grus Americana), and the endangered black lace cactus (Echinocereus reichenbachii var. albertii) in all or portions of Aransas, Austin, Colorado, Galveston, Goliad, Refugio, and Victoria counties, Texas. We invite public comment.

DATES: To ensure consideration, written comments must be received on or before May 30, 2007.

ADDRESSES: Persons wishing to review the application may obtain a copy by writing to the Regional Director, U.S. Fish and Wildlife Service, P.O. Box 1306, Room 4102, Albuquerque, New Mexico 87103. Persons wishing to review the draft Agreement or other related documents may obtain a copy by written or telephone request to the Field Supervisor, Corpus Christi Ecological Services Field Office, c/o Texas A&M University at Corpus Christi, 6300 Ocean Drive, Unit 5837, Corpus Christi, Texas 78412-5837, (361) 994-9005. The documents will also be available for public inspection, by appointment only, during normal business hours (8 a.m. to 4:30 p.m.) at the Service's Corpus Christi office. Comments concerning the draft Agreement or other related documents should be submitted in writing to the Field Supervisor at the U.S. Fish and Wildlife Service, Corpus Christi Ecological Services Field Office, c/o Texas A&M University at Corpus Christi, 6300 Ocean Drive, Unit 5837, Corpus Christi, Texas 78412-5837. Please refer to permit number TE-151746-0 when submitting comments. All comments received, including names and addresses, will become a part of the official administrative record and may be made available to the public.

Public Availability of Comments

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Mary Orms at the U.S. Fish and Wildlife Service, Corpus Christi Ecological Services Field Office, c/o Texas A&M University at Corpus Christi, 6300 Ocean Drive, Unit 5837, Corpus Christi, Texas 78412-5837 (361-994-9005; Fax 361-994-8262, or Mary_Orms@fws.gov)

SUPPLEMENTARY INFORMATION: The Applicant has applied to the Service for a section 10(a)(1)(A) enhancement of survival permit for the endangered Attwater's prairie chicken, the endangered Northern aplomado falcon, the endangered Whooping crane, and the endangered black lace cactus in all or portions of Aransas, Austin, Colorado, Galveston, Goliad, Refugio, and Victoria counties, Texas for a period of 99 years.

Background

The Applicant plans to implement conservation measures designed to promote the recovery of covered species on enrolled private lands located in the counties listed above. The conservation measures will improve and maintain healthy productive grasslands, reduce brush canopy, modify plant composition, promote growth of or enhance the detection and/or palatability of desired foods, increase prey base, facilitate the accumulation of fine fuels for prescription burning, provide additional habitat, provide upland freshwater supplies, and aid in dispersal of covered species among various protected habitats, providing a measure of insurance against losses due to demographic or genetic factors and catastrophic events. The Agreement is expected to provide a net conservation benefit for the Attwater's prairie chicken, Northern aplomado falcon, Whooping crane, and black lace cactus. Due to the programmatic nature of this Agreement, baseline conditions will be determined at the time of enrollment. Baseline conditions for most properties enrolled under the Agreement are anticipated to be zero. Where participating properties are determined to have an environmental baseline greater than zero, these areas shall be described in the Certificate of Inclusion (CI) and Prairie Management Agreement, with detailed descriptions and/or maps showing the locations of existing habitat or populations attached to the CI and Prairie Management Agreement.

The Agreement will provide certainty to the Applicant relative to future property-use restrictions in the event that any of the covered species should be taken on their land as a result of implementation of the proposed conservation measures.

Under a Safe Harbor Agreement, participating property owners voluntarily undertake management activities on their property to enhance, restore, or maintain habitat benefiting species listed under the Act. Safe Harbor Agreements encourage private and other non-Federal property owners to implement conservation efforts for listed species by assuring property owners they will not be subject to increased property use restrictions if their efforts attract listed species to their property or increase the numbers or distribution of listed species already on their property.

Section 9 of the Act prohibits take of threatened or endangered species. However, the Service, under limited circumstances, may issue permits to take threatened and endangered wildlife species incidental to, and not the purpose of, otherwise lawful activities.

Christopher T. Jones,
Acting Regional Director, Southwest Region, Albuquerque, New Mexico.

[FR Doc. E7-8164 Filed 4-27-07; 8:45 am]

BILLING CODE 4510-55-P